DEPARTMENT OF COMMERCE

International Trade Administration

Eurasian Oil and Gas Suppliers Mission to Almaty, Kazakhstan Ankara and Istanbul Turkey

AGENCY: International Trade Administration, Department of Commerce.

ACTION: Notice.

Mission Description

The United States Department of Commerce, International Trade Administration, U.S. and Foreign Commercial Service (CS) is organizing an industry-specific Oil & Gas Equipment and Services Mission to Kazakhstan and Turkey from June 20-24, 2011. Led by a senior Department of Commerce official, the mission will include representatives from a variety of U.S. firms specializing in the following product areas:

• Offshore/onshore oil and gas drilling and production equipment and services;

• Turbines, compressors and pumps for pipeline applications;

• Measurement and process control equipment for pipeline operations;

• Industrial automation, control and monitoring systems and other equipment and services for refineries, gas processing and petrochemical plants;

• Seismic processing and interpretation;

• Petroleum software development;

• Sulfur removal and disposal technologies;

• Well stimulation;

• Field abandonment services;

• Geothermal exploration, drilling, production and processing equipment and services; and

• Engineering and industrial construction companies.

Mission participants will be introduced to international agents, distributors, and end-users whose capabilities and services are targeted to each participant's needs. This mission will contribute to National Export Initiative goals through increased sales of oil and gas equipment/services in Turkey and Kazakhstan.

Participants will have an opportunity to meet with major international exploration and production companies and integrated service providers operating in Istanbul and Ankara, Turkey and Almaty, Kazakhstan. The mission will also include matchmaking with potential local partners and visiting sites of commercial interest. We are targeting 15 U.S. company representatives responsible for their corporate activity in Eurasia.

Commercial Setting—Turkey

Turkey, the world's 17th largest economy, is a major consumer of oil and gas. Although oil and gas produced in Turkey currently meets only a small fraction of the country's demand, there are significant prospects offshore in the Black Sea, and onshore in the Thrace region of western Turkey, and the East and Southeast. Between 2002 and 2009, 747 wells were drilled. In 2009 alone, $716 million was spent for oil and gas exploration and production in Turkey. As of today, only 20% of onshore prospects and 1% of offshore prospects have been explored. Chevron and ExxonMobil announced important exploration efforts in 2009 and 2010 in the Western Black Sea Region. Companies offering technologies and services for exploration and production can also find a market in the geothermal sector: Turkey ranks No.1 in Europe and 7 in the world in terms of geothermal power potential.

Turkey is a crucial corridor between the energy-rich Caspian and Middle East and Europe. The planned 3,300 km NABUCCO natural gas pipeline will link Caspian and Middle Eastern suppliers through Turkey to Central Europe, and will create major opportunities for U.S. companies. The total capacity of the pipeline will be 25 to 31 BCMA. Estimated investment costs including financing costs for the entire pipeline system will be well over $10 billion. Other potential pipeline projects include Italy—Greece—Turkey Interconnector (ITGI) and Trans Adriatic Pipeline (TAP).

In addition to oil and gas exploration and production activities and pipelines, new refinery and petrochemical plants are planned over the next decade, with a projected increase of over 90% in refining capacity by 2019, to over 1.3 million BPD.

Turkey's oil and gas market provides excellent opportunities for U.S. companies within the following product areas:

1. Offshore and onshore oil and gas exploration and production equipment and services,

2. 2-D and 3-D Seismic equipment and engineering services,

3. Shale gas exploration and production equipment and services,

4. Horizontal Drilling equipment and services,

5. Petrochemical processing equipment and services,

6. Geothermal energy exploration and drilling equipment and engineering services,

7. Coal-bed methane production equipment and services,

8. Compressors, turbines, measuring meters, SCADA systems, and pumps for pipelines,

9. Pipeline construction equipment and engineering services,

10. Refinery processing equipment and refinery auxiliary units,

11. Oil and Gas Storage Systems.

Commercial Setting—Kazakhstan

Kazakhstan has the Caspian Sea region's largest recoverable crude oil reserves and accounts for approximately two-thirds of the roughly 1.8 million barrels per day (bpd) currently being produced in the region. The Government of Kazakhstan and foreign investors continue to focus heavily on the hydrocarbons sector, which so far has received approximately 60% of the estimated $58 billion in foreign direct investment in Kazakhstan since 1991, and makes up approximately 53% of its export revenue. Existing oil extraction sites offshore in the North Caspian, combined with onshore fields currently under development, mark Kazakhstan as a potentially major near-term oil exporter. Already its oil production has reached 1.4 million bpd, with daily output expected to total 2.6 million bpd by 2015. As a result, foreign investors are increasing their focus in its energy infrastructure, including oil transportation routes such as the Baku-Tbilisi-Ceyhan pipeline.

Oil industry sources estimate that Kazakhstan could eventually attract up to $140 billion of foreign investment in its oil infrastructure. Industry experts and the U.S. Commercial Service in Almaty estimate that the current market for oil and gas field equipment and services will grow to $7.5 billion in 2010, and will continue growing at 15-20% annually over the next three years. Kazakhstan as yet has no experience in offshore production and operations. This experience gap offers many opportunities for U.S. service companies in rig work, support infrastructure, and environmentally sensitive technologies. The Caspian Basin's oil-bearing formations are generally quite deep (15,000 feet), under considerable pressure, and often contain a high degree of sulfur and other contaminants, making special drilling and processing equipment necessary. Additionally, U.S. oil and gas field equipment suppliers have the potential for solid growth over the next decade as new fields are brought on-stream and secondary recovery methods are introduced to existing deposits.

Kazakhstan's oil and gas market provides excellent opportunities for U.S. companies within the following product areas:

1. Oil and Gas Well Development;

2. Field Operation;

3. Offshore Oil and Gas Exploration/Exploitation Equipment;

4. Gathering, Treatment, Transportation and Storage of Oil, Petrochemical Products and Natural Gas;

5. Pumps, Fittings and Valves;

6. Gas Detection and Monitoring Systems;

7. Oil and Gas Field Chemicals;

8. Pipeline Construction Equipment; and

9. Pipeline Corrosion Controls.

Mission Goals

The trade mission will assist representatives of American companies responsible for business activity in Eurasia with their efforts to identify profitable opportunities and new markets for their respective U.S. companies and to increase their export potential. The summary of results expected from the mission includes finding potential partners, agents and distributors, joint venture partners, and provide market knowledge for future expansion.

Mission Scenario

In Kazakhstan, mission members will be presented with a briefing by the U.S. Embassy's Commercial Officer, the Commercial Specialist for the oil and gas sector and other key government and corporate officials. Participants will also take part in business matchmaking appointments with Kazakhstani private sector companies. In addition, they will meet with invited representatives from major oil consortia including Tengizchevroil (TCO), North Caspian Operations Company (NCOC), Karachaganak Petroleum Operating (KPO), KazMunayGas (KMG), and others during which they will learn how to get pre-qualified with these operators. The venue will be Almaty, Kazakhstan—the country's business capital.

In Turkey, mission members will also be presented with a briefing by the U.S. Embassy's Commercial Officer, the Commercial Specialist for the oil and gas sector and other key government and corporate officials. Participants will take part in business matchmaking appointments with Turkish private sector companies, which would be potential candidates for agent/representative or distributor. Depending on the availability, potential buyers may also be scheduled for meetings. The venue will be Ankara, the capital of Turkey where the public sector is headquartered and Istanbul where headquarters of most of the private sector is located.

U.S. participants will be counseled before and after the mission by the domestic mission coordinator. Participation in the mission will include the following:

• Pre-travel webinars on subjects ranging from industry briefings to business practices in Turkey and Kazakhstan.

• Pre-scheduled meetings with potential partners, distributors, end users, or local industry contacts in Istanbul and Ankara, Turkey;

• Transportation to and from all airports and all mission-organized meetings;

• Meetings with key government decision makers and private sector firms;

• Participation in networking receptions in Turkey and Kazakhstan; and

• Meetings with CS Turkey's and CS Kazakhstan's energy oil and gas specialists in Istanbul and Ankara, Turkey and Almaty, Kazakhstan.

Mission Timetable

Mission participants will arrive in Almaty, Kazakhstan on Sunday, June 19, 2011 and the mission program will take place from June 20-24, 2011. Departure to the United States or other onward destinations will be on Sunday, June 25, 2011.

Sunday, June 19, 2011—Almaty, Kazakhstan | • Arrival in Almaty, Kazakhstan.
Day 1: Monday, June 20, 2011—Almaty, Kazakhstan | • Agenda Review and Market briefings by U.S. Embassy officials. • Matchmaking Meetings. • Networking Reception.
Day 2: Tuesday, June 21, 2011—Almaty, Kazakhstan | • Meetings with TCO, KPO, NCOC, KMG, and others. • Further Meetings. • Departure to Turkey.
Day 3: Wednesday, June 22, 2011—Ankara, Turkey | • Embassy Briefing. • Industry Briefing. • Evening Networking Reception at Ambassador's Residence.
Day 4: Thursday, June 23, 2011—Ankara, Turkey | • Briefings by Petroleum Affairs General Directorate and/or Turkish Petroleum (TPAO) and/or PETFORM. • 1-1 matchmaking meetings. • Afternoon/Evening Departure to Istanbul.
Day 5: Friday, June 24, 2011—Istanbul, Turkey | • One-on-one matchmaking meetings with potential agents, distributors or partners. • Evening reception hosted by Consul General.
Day 6: Saturday, June 25, 2011—Istanbul, Turkey | • Departure from Istanbul.

Participation Requirements

All parties interested in participating in the Commercial Service Eurasian Oil and Gas Suppliers Trade Mission must complete and submit an application package for consideration by the Department of Commerce. All applicants will be evaluated on their ability to meet certain conditions and best satisfy the selection criteria as outlined below. A minimum of 15 companies will be selected to participate in the mission from the applicant pool. U.S. companies already doing business with Turkey and Kazakhstan as well as U.S. companies seeking to enter these markets for the first time may apply.

Expenses:

After a company has been selected to participate on the mission, a participation fee to the U.S. Department of Commerce is required. The participation fee for one representative is $3,160 for a small or medium-sized enterprise (SME) ¹ and $4,585 for large firms. The fee for each additional firm representative (SME or large) is $450.

¹ An SME is defined as a firm with 500 or fewer employees or that otherwise qualifies as a small business under SBA regulations. See http://www.sba.gov/contractingopportunities/owners/basics/whatismallbusiness/index.html. Parent companies, affiliates, and subsidiaries will be considered when determining business size. The dual pricing reflects the Commercial Service's user fee schedule that became effective May 1, 2008. See http://www.export.gov/newsletter/march2008/initiatives.html.

Expenses for travel, lodging, most meals, and incidentals will be the responsibility of each mission participant. Delegation members will be able to take advantage of Embassy rates for hotel rooms.

Conditions for Participation:

• An applicant must submit a completed and signed mission application and supplemental application materials, including adequate information on the company's products and/or services, primary market objectives, and goals for participation. If the Department of Commerce receives an incomplete application, the Department may reject the application, request additional information, or take the lack of information into account when evaluating the applications.

• Each applicant must also certify that the products and services it seeks to export through the mission are either produced in the United States, or, if not, marketed under the name of a U.S. firm and have at least 51 percent U.S. content of the value of the finished product or service.

Selection Criteria for Participation:

Selection will be based on the following criteria:

• Suitability of the company's products or services to the Eurasian Region oil and gas equipment and services market

• Applicant's potential for business in Turkey and Kazakhstan, including likelihood of exports resulting from the mission

• Consistency of the applicant's goals and objectives with the stated scope of the mission

Diversity of company size, type, location, demographics and traditional under representation in business, may also be considered during the review process.

Referrals from political organizations and any documents containing references to partisan political activities (including political contributions) will be removed from an applicant's submission and not considered during the selection process.

Timeframe for recruitment and Applications

Mission recruitment will be conducted in an open and public manner, including posting on the Commerce Department trade missions calendar— http://www.ita.doc.gov/doctm/tmcal.html—and other Internet websites, publication in domestic trade publications and association newsletters, direct outreach to internal clients and distribution lists, posting in the Federal Register, and announcements at industry meetings, symposia, conferences, and trade shows.

Recruitment for the mission will begin immediately and conclude no later than April 15, 2011. The U.S. Department of Commerce will review all applications immediately after the deadline. Applications received after this date will be considered only if space and scheduling constraints permit. We will inform applicants of selection decisions as soon as possible after the deadline.

Contact Information

U.S. Commercial Service Domestic Contact

Brendan Kelly, Tel: 713-209-3113, E-mail: brendan.kelly@trade.gov. Lisa Huot, Tel: 202-482-1841, E-mail: lisa.huot@trade.gov.

U.S. Commercial Service Almaty, Kazakhstan

Jennifer Kane, Senior Commercial Officer or Azhar Kadrzhanova, Commercial Specialist, U.S. Consulate General—Almaty, 41 Kazybek bi Street, Almaty 050010, Kazakhstan, Tel.: +7 (727) 250-7612, Fax: +7 (727) 250-0777, E-mail: Jennifer.Kane@trade.gov and Azhar.Kadrzhanova@trade.gov.

U.S. Commercial Service Ankara, Turkey

Michael Lally, Senior Commercial Officer or Serdar Cetinkaya, Senior Commercial Specialist, U.S. Embassy—Ankara, Tel: +90 (312) 457-7203, Fax: +90 (312) 457-7302, E-mail: Michael.Lally@trade.gov and Serdar.Cetinkaya@trade.gov.

U.S. Commercial Service Istanbul, Turkey

Gregory Taevs, Principal Commercial Officer, Tel: +90 (212) 335 9302, Fax: +90 (212) 335 9103, E-mail: Gregory.Taevs@trade.gov.

Frank Spector,
Global Trade Promotion Programs, U.S. & Foreign Commercial Services.

[FR Doc. 2010-33248 Filed 1-4-11; 8:45 am]

BILLING CODE P